DEPARTMENT OF COMMERCE

International Trade Administration

[A-570-822, A-583-820]

Certain Helical Spring Lock Washers From the People's Republic of China and Taiwan: Continuation of Antidumping Duty Orders

AGENCY: Enforcement and Compliance, International Trade Administration, Department of Commerce.

DATES: Effective May 26, 2017.

SUMMARY: As a result of the determinations by the Department of Commerce (the Department) and the U.S. International Trade Commission (ITC) that revocation of the antidumping duty orders on certain helical spring lock washers from the People's Republic of China (PRC) and Taiwan would likely lead to continuation or recurrence of dumping and material injury to an industry in the United States, the Department is publishing a notice of continuation of the antidumping duty orders.

FOR FURTHER INFORMATION CONTACT: Andre Gziryan, AD/CVD Operations, Office I, Enforcement and Compliance, International Trade Administration, U.S. Department of Commerce, 1401 Constitution Avenue NW., Washington, DC 20230; telephone (202) 482-2201.

SUPPLEMENTARY INFORMATION: On November 1, 2016, the Department published the notice of initiation of the fourth sunset review of the antidumping duty orders on lock washers from the PRC and Taiwan pursuant to section 751(c) of the Tariff Act of 1930, as amended (the Act).¹

¹ See Initiation of Five-Year (Sunset) Reviews, 81 FR 75808 (November 1, 2016).

As a result of its review, the Department determined that revocation of the antidumping duty orders on certain helical spring lock washers from the PRC and Taiwan would likely lead to continuation or recurrence of dumping and, therefore, notified the ITC of the magnitude of the margins of dumping likely to prevail should the orders be revoked.²

² See Certain Helical Spring Lock Washers from the People's Republic of China and Taiwan: Final Results of the Expedited Fourth Five-Year Sunset Reviews of the Antidumping Duty Orders, 82 FR 12805 (March 7, 2017).

On May 16, 2017, the ITC published its determination, pursuant to section 751(c)(1) of the Act, that revocation of the antidumping duty orders on certain helical spring lock washers from the PRC and Taiwan would be likely to lead to continuation or recurrence of material injury to an industry in the United States within a reasonably foreseeable time.³

³ See Helical Spring Lock Washers from China and Taiwan; Determinations, 82 FR 22560 (May 16, 2017) and USITC Publication 4689 (May 2017), titled Helical Spring Lock Washers from China and Taiwan: Investigation Nos. 731-TA-624-625 (Fourth Review).

Scope of the Orders

The products covered by the orders are lock washers of carbon steel, of carbon alloy steel, or of stainless steel, heat-treated or non-heat-treated, plated or non-plated, with ends that are off-line. Lock washers subject to the orders are currently classifiable under subheadings 7318.21.0000, 7318.21.0030, and 7318.21.0090 of the Harmonized Tariff Schedule of the United States (HTSUS). Although the HTSUS subheadings are provided for convenience and customs purposes, the written description of the scope is dispositive.⁴

⁴ A full description of the scope of the order is contained in the Memorandum, “Issues and Decision Memorandum for the Final Results of the Expedited Sunset Reviews of the Antidumping Duty Orders on Certain Helical Spring Lock Washers from the People's Republic of China (PRC) and Taiwan,” dated March 7, 2017.

Continuation of the Orders

As a result of these determinations by the Department and the ITC that revocation of the antidumping duty orders would be likely to lead to continuation or recurrence of dumping and material injury to an industry in the United States, pursuant to section 751(d)(2) of the Act, the Department hereby orders the continuation of the antidumping orders on certain helical spring lock washers from the PRC and Taiwan. U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next five-year review of the orders not later than 30 days prior to the fifth anniversary of the effective date of continuation.

This five-year (sunset) review and this notice are in accordance with section 751(c) of the Act and published pursuant to section 777(i)(1) of the Act.

Dated: May 22, 2017.
Gary Taverman,
Deputy Assistant Secretary for Antidumping and Countervailing Duty Operations.

[FR Doc. 2017-10871 Filed 5-25-17; 8:45 am]

BILLING CODE 3510-DS-P